DEPARTMENT OF COMMERCE

International Trade Administration

[A-823-820]

Raw Honey From Ukraine: Termination of Less-Than-Fair-Value Investigation

AGENCY: Enforcement and Compliance, International Trade Administration, Department of Commerce.

SUMMARY: Based on a withdrawal of the antidumping duty (AD) petition on raw honey from Ukraine by the American Honey Producers Association and the Sioux Honey Association (collectively, the petitioners), we are terminating this less-than-fair-value (LTFV) investigation.

DATES: Applicable April 6, 2022.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On April 21, 2021, Commerce received an AD petition concerning imports of raw honey from Ukraine, filed in proper form by the petitioners.¹ On May 11, 2021, Commerce initiated the AD investigation on raw honey from Ukraine.² On November 23, 2021, Commerce published its preliminary determination in the LTFV investigation of raw honey from Ukraine, in which we also postponed the final determination.³ On March 2, 2022, Commerce tolled all activities and deadlines by 90 days in this investigation in light of events occurring in Ukraine, thereby extending the deadline for the final determination until July 6, 2022.⁴ On March 24, 2022, the petitioners submitted a letter withdrawing the AD petition with respect to Ukraine.⁵

¹ See Petitioners' Letter, “Raw Honey from Argentina, Brazil, India, Ukraine and the Socialist Republic of Vietnam—Petition for the Imposition of Antidumping Duties,” dated April 21, 2021.

² See Raw Honey from Argentina, Brazil, India, Ukraine, and the Socialist Republic of Vietnam: Initiation of Less-Than-Fair-Value Investigations, 86 FR 26897 (May 18, 2021).

³ See Raw Honey from Ukraine: Preliminary Affirmative Determination of Sales at Less Than Fair Value, Postponement of Final Determination, and Extension of Provisional Measures, 86 FR 66524 (November 23, 2021) (Preliminary Determination), and accompanying Preliminary Decision Memorandum.

⁴ See Memorandum, “Tolling of Deadlines in the Less-Than-Fair-Value Investigation of Raw Honey from Ukraine,” dated March 2, 2022.

⁵ See Petitioners' Letter, “Withdrawal of Petition and Termination of Antidumping Duty Investigation,” dated March 24, 2022.

Section 351.207(b)(1) of Commerce's regulations stipulates that the Secretary may terminate an investigation, provided it has concluded that termination of the investigation is in the public interest. Commerce has concluded that termination is in the public interest. Accordingly, pursuant to section 734(a)(1)(A) of the Tariff Act of 1930, as amended (the Act), 19 CFR 351.207(b)(1), and based on the petitioners' letter withdrawing the AD petition, we are terminating this LTFV investigation.

Termination of the Investigation

In accordance with section 734(a)(1)(A) of the Act and 19 CFR 351.207(b)(1), upon the petitioners' withdrawal of the petition, we are terminating the LTFV investigation of raw honey from Ukraine.

Suspension of Liquidation

In the Preliminary Determination, Commerce determined weighted-average dumping margins for exporters of raw honey from Ukraine that were above de minimis. Therefore, we instructed U.S. Customs and Border Protection (CBP) to suspend liquidation of entries of raw honey from Ukraine as of November 23, 2021, the date of the publication of the Preliminary Determination.⁶ Because Commerce is terminating this LTFV investigation, we will instruct CBP to terminate suspension of liquidation and refund any cash deposits of estimated antidumping duties for entries of raw honey from Ukraine.

⁶ See Preliminary Determination.

Dated: March 31, 2022.
Lisa W. Wang,
Assistant Secretary for Enforcement and Compliance.

[FR Doc. 2022-07270 Filed 4-5-22; 8:45 am]

BILLING CODE 3510-DS-P